DEPARTMENT OF JUSTICE

Notice of Lodging of Consent Decree Under the Comprehensive Environmental Response, Compensation, and Liability Act

Notice is hereby given that on December 28, 2001, a proposed consent decree in United States v. State of California, Civil No. 01-11161 CAS (RZx), was lodged with the United States District Court for the Central District of California.

This consent decree represents a settlement of claims brought against the State of California (“State”) relating to the Casmalia Resources Hazardous Waste Disposal Site (“Site”) located near Casmalia, California. The United States alleges in its complaint that the State disposed hazardous substances at the Site and seeks the recovery of response costs incurred and to be incurred related to the Site pursuant to the Comprehensive Environmental Response, Compensation, and Liability Act, 42 U.S.C. § 9601 et seq.

The consent decree requires the State to pay $15 million, in addition to agreeing not to seek reimbursement of $1.4 million in response costs incurred by the California Department of Toxic Substances Control. The total value of the State's settlement is $16.4 million.

The Department of Justice will receive, for a period of sixty (60) days from the date of this publication, comments relating to the consent decree. As a result of the discovery of anthrax contamination at the District of Columbia mail processing center in mid-October, 2001, the delivery of regular first-class mail sent through the U.S. Postal Service has been disrupted. Consequently, public comments which are addressed to the Department of Justice in Washington, DC and sent by regular, first-class mail through the U.S. Postal Service are not expected to be received in timely manner. Therefore, comments should be addressed to the Assistant Attorney General, Environment and Natural Resources Division, Department of Justice, and Sent: (1) C/o Bradley R. O'Brien; U.S. Department of Justice, Environment and Natural Resources Division, Environmental Enforcement Section, 301 Howard Street, Suite 1050, San Francisco, California, 94105 and/or (2) by facsimile to Bradley R. O'Brien at (415) 744-6476; and/or (3) by overnight delivery, other than through the U.S. Postal Service, to Chief, Environmental Enforcement Section, 1425 New York Avenue, NW., 13th Floor, Washington, DC 20005. Each communication should refer on its face to United States v. State of California, Civil No. 01-11161 CAS (RZx), DOJ Ref. 90-7-1-611/1.

The proposed Consent Decree may be examined at the Region 9 office of the Environmental Protection Agency, U.S. Environmental Protection Agency, 95 Hawthorne Street, San Francisco, CA 94105. A copy of the proposed Consent Decree may also be obtained by faxing a request to Tonia Fleetwood, Department of Justice Consent Decree Library, fax no. (202) 616-6584; phone confirmation no. (202) 514-1547. There is a charge for the copy (25 cent per page reproduction cost). Upon requesting a copy, please mail a check payable to the “U.S. Treasury”, in the amount of $9.00, to: Consent Decree Library, U.S. Department of Justice, PO Box 7611, Washington, DC 20044-7611. The check should refer to United States v. State of California, Civil No. 01-11161 CAS (RZx), DOJ Ref. 90-7-1-611/1.

Ellen M. Mahan,
Assistant Chief, Environmental Enforcement Section, Environment and Natural Resources Division.

[FR Doc. 02-2856 Filed 2-5-02; 8:45 am]

BILLING CODE 4410-15-M